DEPARTMENT OF VETERANS AFFAIRS

48 CFR Parts 802, 804, 808, 809, 810, 813, 815, 817, 819, 828, and 852

RIN 2900-AM92

VA Acquisition Regulation: Supporting Veteran-Owned and Service-Disabled Veteran-Owned Small Businesses

Correction

In rule document E9-28461 beginning on page 64619 in the issue of Tuesday, December 8 make the following correction:

On page 64619, in the third column, under the DATES heading, in the first line, “January 7, 2010” should read “Effective date: January 7, 2010”.

[FR Doc. Z9-28461 Filed 12-14-09; 8:45 am]

BILLING CODE 1505-01-D